DEPARTMENT OF HOMELAND SECURITY

U.S. Customs and Border Protection

[1651-0001]

Agency Information Collection Activities: Cargo Manifest/Declaration, Stow Plan, Container Status Messages and Importer Security Filing

AGENCY: U.S. Customs and Border Protection, Department of Homeland Security.

ACTION: 30-Day notice and request for comments; Extension of an existing collection of information.

SUMMARY: U.S. Customs and Border Protection (CBP) of the Department of Homeland Security will be submitting the following information collection request to the Office of Management and Budget (OMB) for review and approval in accordance with the Paperwork Reduction Act: Cargo Manifest/Declaration, Stow Plan, Container Status Messages and Importer Security Filing. CBP is proposing to add burden hours for four new collections of information, including Electronic Ocean Export Manifest, Electronic Air Export Manifest, Electronic Rail Export Manifest, and Vessel Stow Plan (Export). There are no changes to the existing forms or collections within this OMB approval. This document is published to obtain comments from the public and affected agencies.

DATES: Written comments should be received on or before July 10, 2015 to be assured of consideration.

ADDRESSES: Interested persons are invited to submit written comments on this proposed information collection to the Office of Information and Regulatory Affairs, Office of Management and Budget. Comments should be addressed to the OMB Desk Officer for Customs and Border Protection, Department of Homeland Security, and sent via electronic mail to oira_submission@omb.eop.gov or faxed to (202) 395-5806.

FOR FURTHER INFORMATION CONTACT: Requests for additional information should be directed to Tracey Denning, U.S. Customs and Border Protection, Regulations and Rulings, Office of International Trade, 90 K Street NE., 10th Floor, Washington, DC 20229-1177, at 202-325-0265.

SUPPLEMENTARY INFORMATION: This proposed information collection was previously published in the Federal Register (80 FR 17059) on March 31, 2015, allowing for a 60-day comment period. This notice allows for an additional 30 days for public comments. This process is conducted in accordance with 5 CFR 1320.10. CBP invites the general public and other Federal agencies to comment on proposed and/or continuing information collections pursuant to the Paperwork Reduction Act of 1995 (Pub. L. 104-13; 44 U.S.C. 3507). The comments should address: (a) Whether the collection of information is necessary for the proper performance of the functions of the agency, including whether the information shall have practical utility; (b) the accuracy of the agency's estimates of the burden of the collection of information; (c) ways to enhance the quality, utility, and clarity of the information to be collected; (d) ways to minimize the burden, including the use of automated collection techniques or the use of other forms of information technology; and (e) the annual costs to respondents or record keepers from the collection of information (total capital/startup costs and operations and maintenance costs). The comments that are submitted will be summarized and included in the CBP request for OMB approval. All comments will become a matter of public record. In this document, CBP is soliciting comments concerning the following information collection:

Title: Cargo Manifest/Declaration, Stow Plan, Container Status Messages and Importer Security Filing.

OMB Number: 1651-0001.

Form Numbers: Forms 1302, 1302A, 7509, 7533.

Abstract: This OMB approval includes the following existing information collections: CBP Form 1302 (or electronic equivalent); CBP Form 1302A (or electronic equivalent); CBP Form 7509 (or electronic equivalent); CBP Form 7533 (or electronic equivalent); Manifest Confidentiality; Vessel Stow Plan (Import); Container Status Messages; and Importer Security Filing. CBP is proposing to add new information collections for Electronic Ocean Export Manifest; Electronic Air Export Manifest; Electronic Rail Export Manifest; and Vessel Stow Plan (Export). Specific information regarding these collections of information is as follows:

CBP Form 1302: The master or commander of a vessel arriving in the United States from abroad with cargo on board must file CBP Form 1302, Inward Cargo Declaration, or submit the information on this form using a CBP-approved electronic equivalent. CBP Form 1302 is part of the manifest requirements for vessels entering the United States and was agreed upon by treaty at the United Nations Inter-government Maritime Consultative Organization (IMCO). This form and/or electronic equivalent, is provided for by 19 CFR 4.5, 4.7, 4.7a, 4.8, 4.33, 4.34, 4.38, 4.84, 4.85, 4.86, 4.91, 4.93 and 4.99 and is accessible at: http://www.cbp.gov/sites/default/files/documents/CBP%20Form%201302_0.pdf.

CBP Form 1302A: The master or commander of a vessel departing from the United States must file CBP Form 1302A, Cargo Declaration Outward With Commercial Forms, or CBP-approved electronic equivalent, with copies of bills of lading or equivalent commercial documents relating to all cargo encompassed by the manifest. This form and/or electronic equivalent, is provided for by 19 CFR 4.62, 4.63, 4.75, 4.82, and 4.87-4.89 and is accessible at: http://www.cbp.gov/sites/default/files/documents/CBP%20Form%201302_0.pdf.

Electronic Ocean Export Manifest: CBP will begin a pilot in 2015 to electronically collect ocean export manifest information. This information will be transmitted to CBP in advance via the Automated Export System (AES) within the Automated Commercial Environment (ACE). The data elements to be transmitted may include the following:

• Mode of transportation (Vessel, containerized or Vessel, non-containerized)

• Name of ship or vessel

• Nationality of ship

• Name of master

• Port of loading

• Port of discharge

• Bill of Lading number (Master and House)

• Bill of Lading type (Master, House, Simple or Sub)

• Number of House Bills of Lading

• Marks and Numbers

• Container Numbers

• Seal Numbers

• Number and kind of packages

• Description of goods

• Gross Weight (lb. or kg.)

• Measurements (per HTSUS)

• Shipper name and address

• Consignee name and address

• Notify Party name and address

• Country of Ultimate Destination

• In-bond number

• Internal Transaction Number (ITN) or AES Exemption Statement

• Split Shipment Indicator

• Portion of split shipment

• Hazmat Indicator

• UN Number

• Chemical Abstract Service (CAS) Registry Number

• Vehicle Identification Number (VIN) or Product Identification Number

CBP Form 7509: The aircraft commander or agent must file Form 7509, Air Cargo Manifest, with CBP at the departure airport, or respondents may submit the information on this form using a CBP-approved electronic equivalent. CBP Form 7509 contains information about the cargo onboard the aircraft. This form, and/or electronic equivalent, is provided for by 19 CFR 122.35, 122.48, 122.48a, 122.52, 122.54, 122.73, 122.113, and 122.118, and is accessible at: http://www.cbp.gov/sites/default/files/documents/CBP%20Form%207509_0.pdf.

Electronic Air Export Manifest: CBP will begin a pilot in 2015 to electronically collect air export manifest information. This information will be transmitted to CBP in advance via ACE's AES. The data elements to be transmitted may include the following:

• Exporting Carrier

• Marks of nationality and registration

• Flight Number

• Port of Lading

• Port of Unlading

• Scheduled date of departure

• Consolidator

• De-Consolidator

• Air Waybill type (Master, House, Simple, or Sub)

• Air Waybill Number

• Number of pieces and unit of measure

• Weight (kg./lb.)

• Number of house air waybills

• Shipper name and address

• Consignee name and address

• Cargo description

• AES Internal Transaction Number (ITN) or AES Exemption Statement/Exception Classification

• Split air waybill indicator

• Hazmat indicator

• UN Number

• In-bond number

• Mode of transportation (Air, containerized or Air, non-containerized)

CBP Form 7533: The master or person in charge of a conveyance files CBP Form 7533, INWARD CARGO MANIFEST FOR VESSEL UNDER FIVE TONS, FERRY, TRAIN, CAR, VEHICLE, ETC, which is required for a vehicle or a vessel of less than 5 net tons arriving in the United States from Canada or Mexico, otherwise than by sea, with baggage or merchandise. Respondents may also submit the information on this form using a CBP-approved electronic equivalent. CBP Form 7533, and/or electronic equivalent, is provided for by 19 CFR 123.4, 123.7, 123.61, 123.91, and 123.92, and is accessible at: http://www.cbp.gov/sites/default/files/documents/CBP%20Form%207533_0.pdf.

Electronic Rail Export Manifest: CBP will begin a pilot in 2015 to electronically collect the rail export manifest information. This information will be transmitted to CBP in advance via ACE's AES. The data elements to be transmitted may include the following:

• Mode of Transportation (Rail, containerized or Rail, non-containerized)

• Port of Departure from the United States

• Date of Departure

• Manifest Number

• Train Number

• Rail Car Order

• Car Locator Message

• Hazmat Indicator

• 6-character Hazmat Code

• Marks and Numbers

• SCAC (Standard Carrier Alpha Code) for exporting carrier

• Shipper name and address

• Consignee name and address

• Place where the rail carrier takes possession of the cargo shipment or empty rail car

• Port of Unlading

• Country of Ultimate Destination

• Equipment Type Code

• Container Number(s) (for containerized shipments) or Rail Car Number(s) (for all other shipments)

• Empty Indicator

• Bill of Lading Numbers (Master and House)

• Bill of Lading type (Master, House, Simple or Sub)

• Number of house bills of lading

• Notify Party name and address

• AES Internal Transaction Number (ITN) or AES Exemption Statement

• Cargo Description

• Weight of Cargo (may be expressed in either pounds or kilograms)

• Quantity of Cargo and Unit of Measure

• Seal Number

• Split Shipment Indicator

• Portion of split shipment

• In-bond number

• Mexican Pedimento Number

Manifest Confidentiality: An importer or consignee (inward) or a shipper (outward) may request confidential treatment of its name and address contained in manifests by following the procedure set forth in 19 CFR 103.31.

Vessel Stow Plan (Import): For all vessels transporting goods to the United States, except for any vessel exclusively carrying bulk cargo, the incoming carrier is required to electronically submit a vessel stow plan no later than 48 hours after the vessel departs from the last foreign port that includes information about the vessel and cargo. For voyages less than 48 hours in duration, CBP must receive the vessel stow plan prior to arrival at the first port in the U.S. The vessel stow plan is provided for by 19 CFR 4.7c.

Vessel Stow Plan (Export): CBP will begin a pilot in 2015 to electronically collect a vessel stow plan for vessels transporting goods from the United States, except for any vessels exclusively carrying bulk cargo. The exporting carrier will electronically submit a vessel stow plan in advance.

Container Status Messages (CSMs): For all containers destined to arrive within the limits of a U.S. port from a foreign port by vessel, the incoming carrier must submit messages regarding the status of events if the carrier creates or collects a container status message (CSM) in its equipment tracking system reporting an event. CSMs must be transmitted to CBP via a CBP-approved electronic data interchange system. These messages transmit information regarding events such as the status of a container (full or empty); booking a container destined to arrive in the United States; loading or unloading a container from a vessel; and a container arriving or departing the United States. CSMs are provided for by 19 CFR 4.7d.

Importer Security Filing (ISF): For most cargo arriving in the United States by vessel, the importer, or its authorized agent, must submit the data elements listed in 19 CFR 149.3 via a CBP-approved electronic interchange system within prescribed time frames. Transmission of these data elements provide CBP with advance information about the shipment.

Current Actions: CBP is proposing that this information collection be extended with a change to the burden hours resulting from proposed new information collections associated with the Electronic Ocean Export Manifest, Electronic Air Export Manifest, Electronic Rail Export Manifest, and Vessel Stow Plan (Export). There are no changes to the existing information collections under this OMB approval. The burden hours are listed in the chart below.

Type of Review: Revision and Extension.

Affected Public: Businesses.

Collection | Total burden hours | Number of respondents | Number of responses per respondent | Total responses | Time per response
Air Cargo Manifest (CBP Form 7509) | 366,600 | 260 | 5,640 | 1,466,400 | 15 minutes.
Inward Cargo Manifest for Truck, Rail, Vehicles, Vessels, etc. (CBP Form 7533) | 962,940 | 33,000 | 291.8 | 9,629,400 | 6 minutes.
Inward Cargo Declaration (CBP Form 1302) | 1,500,000 | 10,000 | 300 | 3,000,000 | 30 minutes.
Cargo Declaration Outward With Commercial Forms (CBP Form 1302A) | 10,000 | 500 | 400 | 200,000 | 3 minutes.
Importer Security Filing | 17,739,000 | 240,000 | 33.75 | 8,100,000 | 2.19 hours.
Vessel Stow Plan (Import) | 31,803 | 163 | 109 | 17,767 | 1.79 hours.
Vessel Stow Plan (Export) | 31,803 | 163 | 109 | 17,767 | 1.79 hours.
Container Status Messages | 23,996 | 60 | 4,285,000 | 257,100,000 | 0.0056 minutes.
Request for Manifest Confidentiality | 1,260 | 5,040 | 1 | 5,040 | 15 minutes.
Electronic Air Export Manifest | 121,711 | 260 | 5,640 | 1,466,400 | 5 minutes.
Electronic Ocean Export Manifest | 5,000 | 500 | 400 | 200,000 | 1.5 minutes.
Electronic Rail Export Manifest | 2,490 | 50 | 300 | 15,000 | 10 minutes.
Total | 20,796,603 | 289,996 |  | 281,217,774 |

Dated: June 3, 2015.
Seth Renkema,
Acting Agency Clearance Officer, U.S. Customs and Border Protection.

[FR Doc. 2015-14189 Filed 6-9-15; 8:45 am]

BILLING CODE 9111-14-P